ENVIRONMENTAL PROTECTION AGENCY

[EPA-HQ-OAR-2008-0246; FRL-8718-7]

Agency Information Collection Activities; Proposed Collection; Comment Request; NESHAP for Hazardous Waste Combustors (Renewal), EPA ICR Number 1773.09, OMB Control Number 2050-0171

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before October 23, 2008.

ADDRESSES: Submit your comments, referencing Docket ID No. EPA-HQ-OAR-2008-0246, to (1) EPA, either online using http://www.regulations.gov (our preferred method), or by e-mail to a-and-r-docket@epa.gov, or by mail to: Air and Radiation Docket (28221T), U.S. Environmental Protection Agency, 1200 Pennsylvania Avenue, NW., Washington, DC 20460; and (2) OMB, by mail to: Office of Information and Regulatory Affairs, Office of Management and Budget (OMB), Attention: Desk Officer for EPA, 725 17th Street, NW., Washington, DC 20503.

FOR FURTHER INFORMATION CONTACT: Shiva Garg, Office of Solid Waste (mail code 5302P), Environmental Protection Agency, 1200 Pennsylvania Ave., NW., Washington, DC 20460; telephone number: 703-308-8459; fax number: 703-308-8433; e-mail address: garg.shiva@epa.gov.

SUPPLEMENTARY INFORMATION: EPA has submitted the following ICR to OMB for review and approval according to the procedures prescribed in 5 CFR 1320.12. On May 6, 2008 (73 FR 24977), EPA sought comments on this ICR pursuant to 5 CFR 1320.8(d). EPA received no comments during the comment period. Any additional comments on this ICR should be submitted to EPA and OMB within 30 days of this notice.

EPA has established a public docket for this ICR under Docket ID No. EPA-HQ-OAR-2008-0246, which is available for online viewing at http://www.regulations.gov, or in person viewing at the Air and Radiation Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is (202) 566-1744, and the telephone number for the Air and Radiation Docket is (202) 566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to http://www.regulations.gov.

Title: NESHAP for Hazardous Waste Combustors (Renewal).

ICR numbers: EPA ICR No. 1773.09, OMB Control No. 2050-0171.

ICR Status: This ICR is scheduled to expire on September 30, 2008. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA, under authority of section 112d of the Clean Air Act, established National Emission Standards for Hazardous Air Pollutants (NESHAPs) for hazardous waste combustors: hazardous waste burning incinerators, cement kilns, lightweight aggregate kilns, industrial/commercial/institutional boilers and process heaters, and hydrochloric acid production furnaces. These NESHAPs are found in 40 CFR part 63, subpart EEE. Under these standards, hazardous waste combustors are required to meet emission levels that reflect the maximum achievable control technology.

Subpart EEE of 40 CFR part 63 requires hazardous waste combustors to perform testing and monitoring and submit various reports and perform recordkeeping activities in order to demonstrate compliance with emission standards. Much of the information is kept on-site at the facilities; some is also submitted to the EPA or the delegated state agency. Facilities and EPA use the data to ensure compliance with Maximum Achievable Control Technology (MACT) standards.

Burden Statement: The annual public reporting and recordkeeping burden for this collection of information is estimated to average 52 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Business or other for-profit, and State, Local, or Tribal governments.

Estimated Number of Respondents: 289.

Frequency of Response: On occasion.

Estimated Total Annual Hour Burden: 199,897.

Estimated Total Annual Cost: $21,696,865, includes $16,010,727 for annualized labor cost, and $5,686,138 in annualized capital or O&M costs.

Changes in the Estimates: There is a decrease of 1,630 hours in the total estimated burden currently identified in the OMB Inventory of Approved ICR Burdens. This decrease is due to the fact that most sources have completed several actions involving one-time costs, such as initial notification, notice of the intent to comply, as well as public meetings related to these actions.

Dated: September 16, 2008.
Sara Hisel-McCoy,
Director, Collection Strategies Division.

[FR Doc. E8-22202 Filed 9-22-08; 8:45 am]

BILLING CODE 6560-50-P